DEPARTMENT OF AGRICULTURE

Forest Service

Lassen National Forest, Hat Creek Ranger District, CA, North 49 Project Forest Health Recovery Project

AGENCY: Forest Service, USDA.

ACTION: Notice of intent.

SUMMARY: The Forest Service proposes to develop a network of defensible fuel profile zones (DFPZ's) and wildland urban interface zones (WUIs), conduct area thinning, reduce surface fuels, establish group selection harvest units, and restore remnant aspen stands on the Hat Creek Ranger District in the Lassen National Forest. Treatments within DFPZs would include 9,975 acres of forest and plantation thinning followed by underburning and/or mechanical fuels reduction. Approximately 2,060 acres would be underburned only. Treatments outside of DFPZs would include 3,660 acres of forest and plantation thinning followed by underburning and/or mechanical fuels reduction to develop three WUIs. A modified thinning prescription would be applied in some areas to maintain wildlife habitat and structural diversity. An additional 95 acres of brushfield treatments would also be completed outside of DFPZs. Group selection treatments would be implemented on 1,186 acres across the project area and 49 acres of aspen would be restored. Approximately 1.4 miles of new system roads and 0.7 miles of temporary non-system roads would be constructed. Approximately 3.9 miles of roads would be decommissioned. The project would be implemented through a combination of commercial timber sales, service contracts, and force account crews. These management activities were developed to implement and be consistent with the Lassen National Forest (LNF) Land and Resource Management Plan (LRMP, 1993), as amended by the Herger-Feinstein Quincy Library Group Forest Recovery Act FEIS, FSEIS, and ROD's (1999, 2003), and the Sierra Nevada Forest Plan Amendment FEIS (2001) and FSEIS/ROD (2004).

Decision to be made: The decision to be made is whether to implement the proposed action as described above, to meet the purpose and need for action through some other combination of activities, or to take no action at this time.

Scoping process: Comments concerning the scope of the analysis should be received in writing within 15 days of the date of publication of this Notice of Intent in the Federal Register.

The project was initially listed in the Forest's February 2004 quarterly edition of the Schedule of Proposed Actions (SOPA). Scoping letters were sent in March 2004 to those who responded to the SOPA and other identified interested and affected individuals and government agencies. In the SOPA, the mode of environmental documentation was predicted as an environmental assessment.

At this time, the environmental analysis will be documented in an environmental impact statement. Since only minor changes are being made to the proposed action that was previously scoped, the scoping period at this time is brief. Those who responded during the March 2004 scoping period will be contacted again. In addition, scoping letters previously received by the Forest Service from the first scoping period will continue to be used for this process. A public scoping meeting is not anticipated at this time.

The scoping process will be used to identify issues regarding the proposed action. An issue is defined as a point of dispute, debate, or disagreement related to a specific proposed action based on its anticipated effects. Significant issues brought to our attention are used during an environmental analysis to develop alternatives to the proposed action. Some issues raised in scoping may be considered non-significant because they are: (1) Beyond the scope of the proposed action and its purpose and need; (2) already decided by law, regulation, or the Land and Resource Management Plan; (3) irrelevant to the decision to be made; or (4) conjectural and not supported by scientific or factual evidence.

Alternatives: Alternatives proposed to date are the Proposed Action as describe above and the No Action.

Identification of permits or licenses required: No permits or licenses have been identified to implement the proposed action.

Lead, joint lead, and cooperating agencies: The USDA Forest Service is the lead agency for this proposal; there are no cooperating agencies.

Estimated dates for filing: The expected filing date with the Environmental Protection Agency for the draft EIS March 6, 2006. The expected filing date for the final EIS is July 24, 2006.

Person to which comments may be mailed: Comments may be submitted to: District Ranger, Hat Creek Ranger District, at P.O. Box 220, Fall River Mills, CA, 96028 or (530) 336-5758 (fax) during normal business hours. The Hat Creek Ranger District business hours are from 8 a.m. to 4:30 p.m. Monday through Friday. Electronic comments, in acceptable plain text (.txt), rich text (.rtf), or Word (.doc) formats, may be submitted to: comments-pacificsouthwest-lassen-hatcreek@fs.fed.us using Subject: North 49 Forest Health Recovery Project.

Reviewer's obligation to comment: The comment period on the draft EIS will be 49 days from the date the Environmental Protection Agency publishes the notice of availability of the draft EIS in the Federal Register.

The Forest Service believes, at this early stage, it is important to give reviewers notice of several court rulings related to public participation in the environmental review process. First, reviewers of draft statements must structure their participation in the environmental review of the proposal so that it is meaningful and alerts an agency to the reviewer's position and contentions. Vermont Yankee Nuclear Power Corp. v. NRDC, 435 U.S. 519, 553 (1978). Also environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

FOR FURTHER INFORMATION CONTACT: Scott Stawiarski, Interdisciplinary Team Leader, may be contacted by phone at (530) 336-5521 for more information about the proposed action and the environmental impact statement or at the Hat Creek Ranger District, P.O. Box 220, Fall River Mills, CA 96028.

Responsible official and mailing address: Laurie Tippin, Forest Supervisor, 2550 S. Riverside Drive, Susanville, CA 96130.

Dated: October 27, 2005.
Elizabeth Norton,
Acting Forest Supervisor, Lassen National Forest.

[FR Doc. 05-21798 Filed 11-1-05; 8:45 am]

BILLING CODE 5410-99-M